DEPARTMENT OF COMMERCE

National Oceanic and Atmospheric Administration

50 CFR Part 223

[Docket No. 150211138-7024-02]

RIN 0648-XD771

Endangered and Threatened Wildlife and Plants; Final Rule To List Two Guitarfishes as Threatened Under the Endangered Species Act

AGENCY: National Marine Fisheries Service (NMFS), National Oceanic and Atmospheric Administration (NOAA), Commerce.

ACTION: Final rule; delay of effective date.

SUMMARY: In accordance with the memorandum of January 20, 2017, from the Assistant to the President and Chief of Staff, entitled “Regulatory Freeze Pending Review,” published in the Federal Register on January 24, 2017 (the Memorandum), this action delays the final rule NMFS published on January 19, 2017.

DATES: Effective February 9, 2017, the effective date of the final rule amending 50 CFR part 223, that published on January 19, 2017, at 82 FR 6309, is delayed until March 21, 2017.

FOR FURTHER INFORMATION CONTACT: Marta Nammack, NMFS, Office of Protected Resources (OPR), (301) 427-8403.

SUPPLEMENTARY INFORMATION: On January 19, 2017, NMFS published the final rule to list two foreign marine guitarfish species under the Endangered Species Act (ESA). We considered comments submitted on the proposed listing rule and have determined that the blackchin guitarfish (Rhinobatos cemiculus) and common guitarfish (Rhinobatos rhinobatos) warrant listing as threatened species. We will not designate critical habitat for either of these species because the geographical areas occupied by these species are entirely outside U.S. jurisdiction, and we have not identified any unoccupied areas within U.S. jurisdiction that are currently essential to the conservation of either of these species.

On January 20, 2017, the White House issued a memorandum instructing Federal agencies to temporarily postpone the effective date for 60 days after January 20, 2017, of any regulations or guidance documents that have published in the Federal Register but not yet taken effect, for the purpose of “reviewing questions of fact, law, and policy they raise.” In accordance with this memorandum, this action delays the final rule NMFS published on January 19, 2017, at 82 FR 6309, until March 21, 2017.

List of Subjects in 50 CFR Part 223

Endangered and threatened species, Exports, Imports, Transportation.

Dated: February 3, 2017.
Alan D. Risenhoover,
Acting Deputy Assistant Administrator for Regulatory Programs, National Marine Fisheries Service.

[FR Doc. 2017-02609 Filed 2-8-17; 8:45 am]

BILLING CODE 3510-22-P